DEPARTMENT OF TRANSPORTATION

Federal Aviation Administration

14 CFR Part 71

[Docket No. FAA-2025-2282; Airspace Docket No. 25-ANM-131]

RIN 2120-AA66

Modification of Class E Airspace; Newport Municipal Airport, Newport, OR

AGENCY: Federal Aviation Administration (FAA), DOT.

ACTION: Notice of proposed rulemaking (NPRM).

SUMMARY: This action proposes to modify the Class E airspace extending upward from the surface and from 700 feet above the surface to optimize instrument flight procedure containment at Newport Municipal Airport, Newport, OR. This action would also remove an unnecessary descriptive reference from the text header within the airport's legal description. These actions would support the safety and management of instrument flight rules (IFR) operations at the airport.

DATES: Comments must be received on or before January 5, 2026.

ADDRESSES: Send comments identified by FAA Docket No. FAA-2025-2282 and Airspace Docket No. 25-ANM-131 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except federal holidays.

* Fax: Fax comments to Docket Operations at (202) 493-2251.

Docket: Background documents or comments received may be read at www.regulations.gov at any time. Follow the online instructions for accessing the docket or go to Docket Operations in Room W12-140 of the West Building Ground Floor at 1200 New Jersey Avenue SE, Washington, DC, between 9 a.m. and 5 p.m., Monday through Friday, except federal holidays.

FAA Order JO 7400.11K, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Jeffrey Drasin, Federal Aviation Administration, Western Service Center, Operations Support Group, 2200 S 216th Street, Des Moines, WA 98198; telephone (206) 231-2248.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify Class E airspace to support IFR operations at Newport Municipal Airport, Newport, OR.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received, and any final disposition in person in the Dockets Operations office (see ADDRESSES section for address, phone number, and hours of operations). An informal docket may also be examined during normal business hours at the Northwest Mountain Regional Office of the Federal Aviation Administration, Air Traffic Organization, Western Service Center, Operations Support Group, 2200 S 216th Street, Des Moines, WA 98198.

Incorporation by Reference

Class E2 and E5 airspace designations are published in respective paragraphs 6002 and 6005 of FAA Order JO 7400.11, which is incorporated by reference in 14 CFR 71.1 on an annual basis. This document proposes to amend the current version of that order, FAA Order JO 7400.11K, dated August 4, 2025, and effective September 15, 2025. These updates would be published in the next update to FAA Order JO 7400.11. FAA Order JO 7400.11K, which lists Class A, B, C, D, and E airspace areas, air traffic service routes, and reporting points, is publicly available as listed in the ADDRESSES section of this document.

The Proposal

The FAA is proposing an amendment to 14 CFR part 71 that would modify the Class E airspace. First, the Class E airspace extending upward from the surface would be modified to expand the radius from 4 to 4.6 miles, add a 0.8-mile extension to the south, and modify the existing northern extension. This would adequately contain the maximum circling radii to Runways (RWY) 20 and 34 and departing aircraft until reaching 700 feet above the surface on the NEWPORT ONE DEPARTURE (OBSTACLE) procedure from RWYs 16 and 20. The modification would also contain arriving aircraft that descend to below 1,000 feet above the surface on the Area Navigation (RNAV) (Global Positioning System [GPS]) RWY 34 approach procedure and the Very High Frequency Omnidirectional Range (VOR)-A approach procedure, as well as the missed approach procedure on the Instrument Landing System (ILS) or Localizer (LOC) RWY 16 approach procedure.

Second, the Class E airspace extending upward from 700 feet above the surface would be reduced to exclude unneeded airspace to the northeast while expanding needed coverage to the north, south, and west. This would contain IFR operations until reaching 1,200 feet above the surface on the ILS or LOC RWY 16 missed approach procedure and NEWPORT ONE DEPARTURE (OBSTACLE) procedure from RWYs 16 and 20. This configuration would add sufficient containment for arriving aircraft that descend to below 1,500 feet above the surface on the RNAV (GPS) RWY 34, RNAV (GPS) RWY 16, and the VOR-A procedures' turn.

Last, the text header in the airport's legal descriptions would be modified to remove unnecessary descriptive references to the Newport very high frequency omnidirectional range tactical air navigation (VORTAC).

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1G, Environmental Impacts: Policies and Procedures prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, would be amended as follows:

Paragraph 6002 Class E Airspace Areas Designated as Surface Areas.

* * * * *

ANM OR E2 Newport, OR [Amended]

Newport Municipal Airport, OR

(Lat. 44°34′49″ N, long. 124°03′29″ W)

That airspace extending upward from the surface within a 4.6-mile radius of the airport, within 2.8 miles east and 2.6 miles west of the 341° bearing extending from the airport's 4.6-mile radius to 6.8 miles north, and within 3 miles west of the 159° bearing extending from the airport's 4.6-mile radius to 5.4 miles south.

* * * * *

Paragraph 6005 Class E Airspace Areas Extending Upward From 700 Feet or More Above the Surface of the Earth.

* * * * *

ANM OR E5 Newport, OR [Amended]

Newport Municipal Airport, OR

(Lat. 44°34′49″ N, long. 124°03′29″ W)

That airspace extending upward from 700 feet above the surface within a 4.6-mile radius of the airport, within 4.6 miles east and 2.6 miles west of the 341° bearing extending from the airport's 4.6-mile radius to 10.2 miles north, within 1.6 miles east and 2.9 miles west of the 161° bearing extending from the airport's 4.6-mile radius to 7.9 miles south, and clockwise from the airport's 187° bearing to the 318° bearing extending from the 4.6-mile radius to the 6.5-mile arc.

* * * * *

Issued in Des Moines, Washington, on September 10, 2025.
B.G. Chew,
Group Manager, Operations Support Group, Western Service Center.

[FR Doc. 2025-20247 Filed 11-18-25; 8:45 am]

BILLING CODE 4910-13-P